DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 04-024.

Applicant: The University of Iowa, Central Microscopy Research Facilities, 85 Eckstein Medical Research Bldg., Iowa City, IA 52242-1101.

Instrument: Electron Microscope, Model Jeol JEM-1230.

Manufacturer: JEOL Ltd., Japan. Intended Use: The instrument is intended to be used to obtain and record images from structural and chemical samples provided by investigators throughout the University. Nine full-time staff provide training, process specimens and conduct microscopy evaluation and analysis for or in assistance to 200 faculty research labs. Studies will be primarily biomedical, but will include geosciences and environmental engineering. It will also be used to train both undergraduate and graduate students in the application of various microscopy methodologies.

Application accepted by Commissioner of Customs: December 10, 2004.

Docket Number: 04-025.

Applicant: Oak Ridge National Laboratory c/o UT-Battelle, LLC, PO Box 2008, 1 Bethel Valley Road, Oak Ridge, TN, 37831.

Instrument: Aberration-Corrected Field Emission Electron Microscope, Model JEM-2200FS.

Manufacturer: JEOL Ltd., Japan.

Intended Use: The instrument is intended to be used to study materials including experimental catalysts for automotive emission reduction, novel nanophase materials for high technology applications (including carbon nanotubes, self-assembled nanoparticles, and the like) and a variety of semiconductor materials for electronic and automotive applications. The primary objective in all investigations will be to obtain images at sub-angstrom resolution in order to image specimen features at the atomic level.

Application accepted by Commissioner of Customs: December 16, 2004.

Gerald A. Zerdy,
Program Manager, Statutory Import Programs Staff.

[FR Doc. 04-28524 Filed 12-28-04; 8:45 am]

BILLING CODE 3510-DS-P